SMALL BUSINESS ADMINISTRATION

Reporting Requirements Submitted for OMB Review

AGENCY: Small Business Administration.

ACTION: Notice of Reporting Requirements Submitted for OMB Review; Correction.

SUMMARY: The Small Business Administration published a document in the Federal Register of August 7, 2009, concerning Reporting and Recordkeeping Requirements. The document contained an incorrect word in the title.

FOR FURTHER INFORMATION CONTACT: Curtis Rich, 202-205-7030.

Correction:

In the Federal Register of August 7, 2009, FR document E9-18948, Volume 74, Number 151, page 39727, under Supplementary Information “Title” should read:

SUPPLEMENTARY INFORMATION: Title: Disaster Home/Business Loan Inquiry Record.

Dated: August 7, 2009.
Curtis B. Rich,
Acting, Chief Administrative Information Branch.

[FR Doc. E9-19490 Filed 8-13-09; 8:45 am]

BILLING CODE 8025-01-P